Proclamation 7782 of April 7, 2004

National Physical Fitness and Sports Month, 2004

By the President of the United States of America

A Proclamation

Physical fitness is an integral part of a healthy life and a healthy America. National Physical Fitness and Sports Month provides an opportunity for all Americans to learn more about the benefits of exercise and sports and to make being physically active part of their everyday lives.

Regular physical activity builds strength and aerobic fitness, provides motivation, promotes relaxation, and facilitates sleep for people of all ages and abilities. Regular exercise—in some cases, simply walking for half an hour—can help reduce the risk of many serious health problems, such as heart disease and diabetes. By participating in sports, individuals also learn teamwork, discipline, and how to accept victory and defeat with grace. These important lessons help build good character and teach strong values.

My Administration has recommended a few simple steps to achieve better health and fitness. Our HealthierUS Initiative promotes daily physical activity, healthy diets, and preventative screenings. It also encourages people to avoid tobacco and drugs, and to make responsible choices about alcohol. Across our country, people are making physical activity part of their daily lives by participating in the President's Challenge, a fitness program that helps them track weekly fitness activities and rewards them for reaching defined fitness goals.

As we observe National Physical Fitness and Sports Month, I urge adults and children to participate in regular physical activity. I encourage parents to make family time active, and I call on Americans to help motivate their friends to have anactive lifestyle. By exercising regularly and participating in sports, we can improve our health, set a positive example for our children, and help build a stronger future for our country.

NOW, THEREFORE, I, GEORGE W. BUSH, President of the United States of America, by virtue of the authority vested in me by the Constitution and laws of the United States, do hereby proclaim May 2004 as National Physical Fitness and Sports Month. I call upon the people of the United States to recognize the importance of daily physical activity and sports for all our citizens, and to make fitness a part of daily life. I also call on all Americans to celebrate this month with appropriate ceremonies, activities, and programs.

IN WITNESS WHEREOF, I have hereunto set my hand this seventh day of May, in the year of our Lord two thousand four, and of the Independence of the United States of America the two hundred and twenty-eighth.

B

[FR Doc. 04-10911

Filed 5-11-04; 8:45 am]

Billing code 3195-01-P